DEPARTMENT OF COMMERCE

International Trade Administration

Advisory Committee on Supply Chain Competitiveness: Notice of Public Meeting

AGENCY: International Trade Administration, U.S. Department of Commerce.

ACTION: Notice of open meeting.

SUMMARY: This notice sets forth the schedule and proposed topics of discussion for a public meeting of the Advisory Committee on Supply Chain Competitiveness (Committee).

DATES: This Webex meeting will be held on Wednesday, August 11, 2021, from 11:00 a.m. to 12:00 p.m. Eastern Daylight Time. The deadline for members of the public to register to participate in or listen to the meeting is 5:00 p.m., Wednesday, August 4, 2021.

ADDRESSES: The meeting will be held by Webex. The Webex link, and call-in number, and passcode will be provided by email to registrants. Requests to register and any written comments should be submitted to: Richard Boll, Office of Supply Chain, Professional & Business Services, International Trade Administration by email: richard.boll@trade.gov. Members of the public are encouraged to submit registration requests via email to ensure timely receipt.

FOR FURTHER INFORMATION CONTACT: Richard Boll, Office of Supply Chain, Professional & Business Services, International Trade Administration by email richard.boll@trade.gov or phone 202-384-8539.

SUPPLEMENTARY INFORMATION: The Committee was established under the discretionary authority of the Secretary of Commerce and in accordance with the Federal Advisory Committee Act (5 U.S.C. App. 2). It provides advice to the Secretary of Commerce on the necessary elements of a comprehensive policy approach to supply chain competitiveness designed to support U.S. export growth and national economic competitiveness, encourage innovation, facilitate the movement of goods, and improve the competitiveness of U.S. supply chains for goods and services in the domestic and global economy; and provides advice to the Secretary on regulatory policies and programs and investment priorities that affect the competitiveness of U.S. supply chains. For more information about the Committee visit: https://www.trade.gov/acscc.

Matters to be Considered: Committee members are expected to deliberate and vote on Committee-drafted letters outlining priority recommendations to the Secretary of Commerce that have been raised at the previous Committee meetings, including recommendations on supply chain resilience and congestion, workforce development in the trucking industry, data requirements for internal U.S. shipments, and digitalization of supply chains. These letters will highlight the important issues that the Committee recommends that the Secretary of Commerce consider to improve the competitiveness of U.S. supply chains, facilitate new job growth within the United States, and increase U.S. exports. The Committee's subcommittees will report on the status of their work regarding these topics. The agenda may change to accommodate other Committee business.

The Office of Supply Chain, Professional & Business Services will post the final agenda on the Committee website https://www.trade.gov/acscc at least one week prior to the meeting. The WebEx and conference line will be open to the public for comments on a first-come, first-served basis. Access lines are limited. The minutes of the meetings and any recommendations adopted by the Committee will be posted on the Committee website within 60 days of the meeting.

Dated: July 19, 2021.
Heather Sykes,
Director, Office of Supply Chain, Professional, and Business Services.

[FR Doc. 2021-15750 Filed 7-23-21; 8:45 am]

BILLING CODE 3510-DR-P